DEPARTMENT OF THE INTERIOR

Bureau of Land Management

[LLCO956000 L14200000.BJ0000]

Notice of Filing of Plats of Survey; Colorado

AGENCY: Bureau of Land Management, Interior.

ACTION: Notice of Filing of Plats of Survey; Colorado.

SUMMARY: The Bureau of Land Management (BLM) Colorado State Office is publishing this notice to inform the public of the intent to officially file the survey plats listed below and afford a proper period of time to protest this action prior to the plat filing. During this time, the plats will be available for review in the BLM Colorado State Office.

DATES: Unless there are protests of this action, the filing of the plats described in this notice will happen on June 30, 2014.

ADDRESSES: BLM Colorado State Office, Cadastral Survey, 2850 Youngfield Street, Lakewood, CO 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The plat, in 2 sheets, and field notes of the dependent resurvey and survey in Township 36 North, Range 13 West, New Mexico Principal Meridian, Colorado, were accepted on March 4, 2014.

The plat and field notes of the dependent resurvey and survey in Township 36 North, Range 1 West, New Mexico Principal Meridian, Colorado, were accepted on March 12, 2014.

The plat, in 2 sheets, incorporating the field notes of the dependent resurvey in Township 7 South, Range 81 West, Sixth Principal Meridian, Colorado, was accepted March 27, 2014.

The plat and field notes of the dependent resurvey in unsurveyed Township 7 South, Range 78 West, Sixth Principal Meridian, Colorado, were accepted on April 2, 2014. The plat and field notes of the dependent resurvey and survey in Township 13 South, Range 69 West, Sixth Principal Meridian, Colorado, were accepted on April 3, 2014. The plat of Amended Protraction Diagram No. 27A in unsurveyed Township 40 North, Range 7 West, New Mexico Principal Meridian, Colorado, was accepted on April 24, 2014.

The plat of Amended Protraction Diagram No. 27B in unsurveyed Township 40 North, Range 8 West, New Mexico Principal Meridian, Colorado, was accepted on April 24, 2014.

The plat and field notes of the dependent resurvey and survey in Township 15 South, Range 97 West, Sixth Principal Meridian, Colorado, were accepted on May 1, 2014. The plat and field notes of the dependent resurvey and corrective dependent resurvey in Township 15 South, Range 98 West, Sixth Principal Meridian, Colorado, were accepted on May 1, 2014.

Randy Bloom,
Chief Cadastral Surveyor for Colorado.

[FR Doc. 2014-12466 Filed 5-28-14; 8:45 am]

BILLING CODE 4310-JB-P